DEPARTMENT OF EDUCATION

[Docket No.: ED-2025-SCC-0018]

Agency Information Collection Activities; Submission to the Office of Management and Budget for Review and Approval; Comment Request; Part D Discretionary Grant Application—Individuals With Disabilities Education Act

AGENCY: Office of Special Education and Rehabilitative Services (OSERS), Department of Education (ED).

ACTION: Notice.

SUMMARY: In accordance with the Paperwork Reduction Act (PRA) of 1995, the Department is proposing an extension without change of a currently approved information collection request (ICR).

DATES: Interested persons are invited to submit comments on or before May 19, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Darcalyn Darling, (202) 245-6372.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Part D Discretionary Grant Application—Individuals with Disabilities Education Act.

OMB Control Number: 1820-0028.

Type of Review: Extension without change of a currently approved ICR.

Respondents/Affected Public: State, Local, and Tribal Governments.

Total Estimated Number of Annual Responses: 800.

Total Estimated Number of Annual Burden Hours: 21,200.

Abstract: The collection of information (Part D Discretionary Grant Application—Individuals with Disabilities Education Act) is necessary to ensure that potential applicants provide the information necessary for the Department of Education to ascertain the eligibility of the applicant and determine the programmatic responsiveness and technical quality of the application. Under the Individuals with Disabilities Education Act discretionary grants are authorized to support technology, State personnel development, personnel preparation, parent training and information, and technical assistance activities. In making competitive grant awards under this collection, applicants shall use the SF-424 series and those forms and instructions prescribed by the Secretary. The Individuals with Disabilities Education Act, which provides the programmatic authority for this collection, requires that grant awards under these programs be made through competition. This discretionary grant falls under the Streamlined clearance process for Discretionary Grant Information Collections, 1894-0001. Therefore, the 30-day public comment period notice will be the only public comment notice published for this information collection.

Ross Santy,
Chief Data Officer, Office of Planning, Evaluation and Policy Development.

[FR Doc. 2025-06572 Filed 4-16-25; 8:45 am]

BILLING CODE 4000-01-P